DEPARTMENT OF HOUSING AND URBAN DEVELOPMENT

[Docket No. FR-4723-C-2B]

FY 2002 Super Notice of Funding Availability (SuperNOFA) for HUD's Discretionary Grants Programs for Fiscal Year 2002; Notice of Extension of Application Deadline for Applicants in Charles, St. Mary and Calvert Counties, MD and McDowell, WY, Mercer and Mingo Counties, WV for the Section 202 Supportive Housing for the Elderly Program and Section 811 Supportive Housing for Persons with Disability Program

AGENCY: Office of the Secretary, HUD.

ACTION: Super Notice of Funding Availability (SuperNOFA) for HUD's Discretionary Grant Programs; Notice of extension of application deadline.

SUMMARY: On March 26, 2002, HUD published its Fiscal Year (FY) 2002 Super Notice of Funding Availability (SuperNOFA) for HUD's discretionary grant programs. This notice extends the application due date for applicants in Charles, St. Mary and Calvert Counties, Maryland (designated as disaster areas as the result of tornados) and in McDowell, Wyoming, Mercer and Mingo Counties, West Virginia (designated as disaster areas as the result of severe storms, flooding, and landslides) who are seeking funding under Section 202 Supportive Housing for the Elderly and Section 811 Supportive Housing for Persons with Disabilities.

DATES: The application due date for the Section 202 Supportive Housing for the Elderly Program applicants located in the Federally designated disaster areas has been extended to July 9, 2002. For all other Section 202 Program applicants, the due date remains June 5, 2002.

The application due date for the Section 811 Supportive Housing for Persons with Disabilities for applicants in the disaster areas has been extended to July 9, 2002. For all other Section 811 Program applicants, the due date remains June 5, 2002.

FOR FURTHER INFORMATION CONTACT: For the Section 202 and Section 811 programs affected by this notice, please contact the office or individual listed under the FOR FURTHER INFORMATION CONTACT heading in the individual program section of the SuperNOFA, published on March 26, 2002 at 67 FR13826.

SUPPLEMENTARY INFORMATION: On March 26, 2002 (67 FR 13826), HUD published its Fiscal Year (FY) 2002 Super Notice of Funding Availability (SuperNOFA) for HUD's discretionary grant programs. The FY 2002 SuperNOFA announced the availability of approximately $2.2 billion in HUD program funds covering 41 grant categories within programs operated and administered by HUD offices. This notice published in today's Federal Register extends the application due date for the Section 202 and Section 811 program for applicants located in counties declared disaster areas by the Federal Emergency Management Agency (FEMA) declarations FEMA-1409-DR and FR-1410-DR. Specifically, these declarations cover Charles, St. Mary and Calvert counties, Maryland and McDowell, Wyoming, Mercer and Mingo counties, West Virginia. Any additional counties designated as federal disaster areas under FEMA-1409-DR or FR-1410-DR will be posted on HUD's web page (www.hud.gov) and published by Federal Emergency Management Agency (FEMA) in the Federal Register. For all other Section 202 Supportive Housing for the Elderly Program and Section 811 Supportive Housing for Persons with Disabilities Program applicants, the application due date of June 5, 2002 remains unchanged.

Dated: May 23, 2002.
John C. Weicher,
Assistant Secretary for Housing—Federal Housing Commissioner.

[FR Doc. 02-14089 Filed 6-5-02; 8:45 am]

BILLING CODE 4210-27-P